ENVIRONMENTAL PROTECTION AGENCY

40 CFR Part 81

[EPA-HQ-OAR-2012-0918; FRL-9925-76-OAR]

Additional Air Quality Designations and Technical Amendment To Correct Inadvertent Error in Air Quality Designations for the 2012 Primary Annual Fine Particle (PM2.5) National Ambient Air Quality Standards (NAAQS)

AGENCY: Environmental Protection Agency (EPA).

ACTION: Final rule.

SUMMARY: The Environmental Protection Agency (EPA) is establishing air quality designations in the United States (U.S.) for the 2012 primary annual fine particle (PM2.5) National Ambient Air Quality Standards (NAAQS) for five areas in Georgia and neighboring counties in Alabama and South Carolina. The EPA is also changing the initial designation of one area in Ohio, two areas in Pennsylvania, one area shared between Indiana and Kentucky, and one area shared between Kentucky and Ohio for the 2012 PM2.5 NAAQS. These states have recently submitted complete, quality-assured, and certified air quality data for 2014, and based on that data the EPA is finalizing appropriate initial designations for these areas. Lastly, the EPA is making one minor technical amendment to correct an inadvertent error in the initial designation for a county in Pennsylvania with respect to the 2012 PM2.5 NAAQS.

DATES: This final rule is effective on April 15, 2015.

ADDRESSES: The EPA has established a docket for this action under Docket ID No. EPA-HQ-OAR-2012-0918. All documents in the docket are listed in the www.regulations.gov index. Although listed in the index, some information is not publicly available, i.e., Confidential Business Information or other information whose disclosure is restricted by statute. Certain other material, such as copyrighted material, is not placed on the Internet and will be publicly available only in hard copy form. Publicly available docket materials are available either electronically in www.regulations.gov or in hard copy at the EPA Docket Center, William Jefferson Clinton West Building, Room 3334, 1301 Constitution Avenue NW., Washington, DC. The Public Reading Room is open from 8:30 a.m. to 4:30 p.m., Monday through Friday, excluding legal holidays. The telephone number for the Public Reading Room is (202) 566-1744 and the telephone number for the Air Docket is (202) 566-1742.

In addition, the EPA has established a Web site for these rulemakings at: http:/http://epa.gov/pmdesignations/2012standards/index.htm. This Web site includes the EPA's final PM2.5 designations, as well as state and tribal initial recommendation letters, the EPA's modification letters, technical support documents, responses to comments and other related technical information.

FOR FURTHER INFORMATION CONTACT: For general questions concerning this action, please contact Andy Chang, U.S. EPA, Office of Air Quality Planning and Standards, Air Quality Planning Division, C539-04, Research Triangle Park, NC 27711, telephone (919) 541-2416, email at chang.andy@epa.gov.

SUPPLEMENTARY INFORMATION:

REGIONAL OFFICE CONTACTS:

Region 3—Leslie Jones, (215) 814-3409, jones.leslie@epa.gov,

Region 4—Joel Huey, (404) 562-9104, huey.joel@epa.gov, and

Region 5—Carolyn Persoon, (312) 353-8290, persoon.carolyn@epa.gov.

The public may inspect the rule and state-specific technical support information at the following locations:

Regional offices | States
EPA Region 3: Office of Air Program Planning, 1650 Arch Street, Philadelphia, PA 19103-2187, (215) 814-2178 | Delaware, District of Columbia, Maryland, Pennsylvania, Virginia and West Virginia.
EPA Region 4: Air Planning Branch, Sam Nunn Atlanta Federal Center, 61 Forsyth, Street, SW, 12th Floor, Atlanta, GA 30303-8960, (404) 562-9127 | Alabama, Florida, Georgia, Kentucky, Mississippi, North Carolina, South Carolina and Tennessee.
EPA Region 5: Air Programs Branch, Ralph Metcalfe Federal Building, 77 West Jackson Street, Chicago, IL 60604-3590, (312) 886-6043 | Illinois, Indiana, Michigan, Minnesota, Ohio and Wisconsin.

Table of Contents

The following is an outline of the Preamble.

I. Background

II. Purpose and Designation Decisions Based on 2012-2014 Data

A. Deferred Areas Designated Unclassifiable/Attainment Based on 2012-2014 Data

B. Nonattainment Designations Changing to Unclassifiable/Attainment or Unclassifiable Based on 2012-2014 Data

C. Minor Technical Amendment To Correct Inadvertent Error

III. Environmental Justice Considerations

IV. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health and Safety Risks

H. Executive Order 13211: Actions That Significantly Affect Energy Supply, Distribution or Use

I. National Technology Transfer and Advancement Act (NTTAA)

J. Executive Order 12898: Federal Actions To Address Environmental Justice in Minority Populations and Low-Income Populations

K. Congressional Review Act (CRA)

L. Judicial Review

I. Background

On December 14, 2012, the EPA promulgated a revised primary annual PM2.5 NAAQS to provide increased protection of public health and welfare from fine particle pollution (78 FR 3086; January 15, 2013). In that action, the EPA revised the primary annual PM2.5 standard, strengthening it from 15.0 micrograms per cubic meter (μg/m³) to 12.0 μg/m³, which is attained when the 3-year average of the annual arithmetic means does not exceed 12.0 μg/m³.

Section 107(d) of the Clean Air Act (CAA), 42 U.S.C. 7407(d), governs the process for initial area designations after the EPA establishes a new or revised NAAQS. Under section 107(d), each governor is required to, and each tribal leader may, if they so choose, recommend air quality designations, including the appropriate boundaries for “nonattainment” areas, to the EPA by a date which cannot be later than 1 year after the promulgation of a new or revised NAAQS. The EPA considers these recommendations as part of its duty to promulgate the formal area designations and boundaries for the new or revised NAAQS. If, after careful consideration of these recommendations, public input received and the EPA's own technical analyses, the EPA believes that it is necessary to modify a state's recommendation and to promulgate a designation different from a state's recommendation, then the EPA must notify the state at least 120 days prior to promulgating the final designation and the EPA must provide the state an opportunity to demonstrate why any proposed modification is inappropriate. These modifications may relate either to an area's designation category or to the boundaries of an area.

On December 18, 2014, the Administrator of the EPA signed a final action promulgating initial designations for the 2012 PM2.5 NAAQS for the majority of the U.S., including areas of Indian country. That rulemaking, which published in the Federal Register on January 15, 2015 (80 FR 2206), designated 14 areas in six states, including two multi-state areas, as nonattainment for the 2012 PM2.5 NAAQS. The EPA also designated three areas, including the entire state of Illinois, as “unclassifiable” because the ambient air quality monitoring sites in these areas lacked complete data for the relevant period from 2011-2013. In the absence of complete monitoring data, the EPA could not determine, based on available information, whether these areas meet or do not meet the NAAQS, and also could not determine whether these areas contribute to a nearby violation. Lastly, the EPA deferred initial area designations for 10 areas where available data, including air quality monitoring data, were insufficient to determine whether the areas meet or do not meet the NAAQS. For these areas, the EPA noted that it believed additional future air quality monitoring data would result in complete and valid data sufficient to inform a designation determination. Accordingly, the EPA deferred designations for these areas and stated that it would use the additional time available as provided under section 107(d)(1)(B) of the CAA to assess relevant information and subsequently promulgate initial designations for the identified areas through a separate rulemaking action or actions. The 10 deferred areas included: Eight areas in the state of Georgia, including two neighboring counties in the bordering states of Alabama and South Carolina; the entire state of Tennessee, excluding three counties in the Chattanooga area; and, the entire state of Florida. The EPA designated all the remaining state areas and areas of Indian country as unclassifiable/attainment. Consistent with the EPA's “Policy for Establishing Separate Air Quality Designations for Areas of Indian Country” (December 20, 2011), the EPA designated one area of Indian country separately from its adjacent/surrounding state areas.¹ The lands of the Pechanga Band of Luiseño Mission Indians in Southern California were designated as a separate unclassifiable/attainment area.

¹ For more information, visit http://www.epa.gov/ttncaaa1/t1/memoranda/20120117indiancountry.pdf.

The EPA's January 15, 2015, rulemaking also described a process by which the EPA would evaluate any complete, quality-assured, certified air quality monitoring data from 2014 that a state submitted for consideration before February 27, 2015 (80 FR 2209). The EPA stated that it would evaluate whether, with the inclusion of certified 2014 data, the 3-year design value for 2012-2014 suggests that a change in the initial designation would be appropriate for an area. If the EPA agreed that a change in the initial designation would be appropriate, the EPA would withdraw the designation announced in the January 15, 2015, action for such area before the effective date and issue another designation reflecting the inclusion of 2014 data (80 FR 2209).

II. Purpose and Designation Decisions Based on 2012-2014 Data

The purposes of this action are to: announce and promulgate initial area designations of unclassifiable/attainment for the 2012 PM2.5 NAAQS for five areas in the state of Georgia, including two neighboring counties in the bordering states of Alabama and South Carolina that were initially deferred in the EPA's January 15, 2015, rulemaking; change the designation of one area in Ohio, two areas in Pennsylvania, one area shared between Indiana and Kentucky, and one area shared between Kentucky and Ohio; and make one minor technical amendment to correct an inadvertent error in the designation for Allegheny County, Pennsylvania. A discussion of each of these actions follows below.

A. Deferred Areas Designated Unclassifiable/Attainment Based on 2012-2014 Data

In this action, the EPA is designating five areas as unclassifiable/attainment in the state of Georgia, and two neighboring counties in the bordering states of Alabama and South Carolina, all of which were initially deferred in the EPA's January 15, 2015, rulemaking: Augusta (Richmond County and Columbia County in Georgia and Aiken County in South Carolina); Columbus (Muscogee County in Georgia and Russell County in Alabama); Savannah, Georgia (Chatham County and Effingham County); Valdosta, Georgia (Brooks County and Lowndes County); and Washington County, Georgia. The EPA's January 15, 2015, rulemaking stated that with respect to deferred areas, the EPA would use the additional time available as provided under section 107(d)(1)(B) of the CAA to assess relevant information and subsequently promulgate initial designations for the identified areas through separate rulemaking action or actions (80 FR 2207).² This final action promulgating initial designations fulfills that commitment with respect to these five areas in the state of Georgia, and the two neighboring counties in the bordering states of Alabama and South Carolina. We emphasize that the EPA is not at this time promulgating initial designations for the remainder of the areas in the U.S. that were deferred in the EPA's January 15, 2015, action.

² See also the technical support documents for the deferred Georgia areas in the rulemaking docket, documents numbered EPA-HQ-OAR-2012-0918-0324 and EPA-HQ-OAR-2012-0918-0156.

In the January 15, 2015, action, the EPA stated that for areas deferred due to lack of sufficient data, the agency would evaluate any complete, quality-assured, certified air quality monitoring data from 2014 that a state submitted for consideration before February 27, 2015 (80 FR 2210). The states of Georgia, Alabama and South Carolina each submitted to the EPA complete, quality-assured, and certified air quality monitoring data from 2014 for five deferred areas by the prescribed deadline. These data provide the EPA with sufficient information to promulgate initial designations for these five areas. Specifically, the EPA is designating these five areas as unclassifiable/attainment because the 2014 air quality data collected in these states and submitted to the EPA indicate that the areas are attaining the 2012 PM2.5 NAAQS. These designations are consistent with the state of Georgia's recommended area designations and boundaries for the standard, for which the public had an opportunity to provide comment and input during the public comment period provided by the EPA for the initial area designations process.³

³ The period for public comment was open from February 15, 2013, to April 8, 2013 (78 FR 11124 and 78 FR 17915).

B. Nonattainment Designations Changing to Unclassifiable/Attainment or Unclassifiable Based on 2012-2014 Data

Based on complete, quality-assured, and certified air quality monitoring data from 2014 submitted to the EPA by several states prior to the February 27, 2015, deadline prescribed in the January 15, 2015, rulemaking, the EPA is changing the initial designation status for five areas. As noted in the Background section of this preamble, the EPA established a process in the January 15, 2015, rulemaking for considering 2014 air quality data in the event that such data would change the initial designation for an area. In cases where we agree that a change in the initial designation would be appropriate, the EPA would withdraw the designation announced in the January 15, 2015, action for such area before the effective date of April 15, 2015, and issue another designation reflecting the inclusion of 2014 data.

Pursuant to this process, the EPA is changing the initial designation of the following five areas for the 2012 PM2.5 NAAQS: Canton, Ohio; Allentown, Pennsylvania; Johnstown, Pennsylvania; Cincinnati-Hamilton, Ohio-Kentucky and Louisville, Kentucky-Indiana. The EPA is changing the initial designation of all areas except for Louisville from nonattainment to unclassifiable/attainment. The initial designation for the Louisville area is changing from nonattainment to unclassifiable.

Procedurally, these changes in initial designations are consistent with our early data certification and evaluation process, as described earlier and in the January 15, 2015, rulemaking. The states of Indiana, Kentucky, Ohio and Pennsylvania submitted complete, quality-assured, and certified air quality monitoring data from 2014 to the EPA by the prescribed deadline. With the inclusion of the 2014 data that was submitted for each monitor, the 3-year design values for 2012—2014 justify changing the initial designation for these areas with respect to the 2012 PM2.5 NAAQS.

The tables at the end of this final rule (amendments to 40 CFR 81.301—Alabama, 40 CFR 81.311—Georgia, 40 CFR 81.315—Indiana, 40 CFR 81.318—Kentucky, 40 CFR 81.336—Ohio, 40 CFR 31.339—Pennsylvania and 40 CFR 81.341—South Carolina) list all areas for which the EPA is changing the initial designation in each impacted state. This action does not impact any areas of Indian country.

1. Additional information about the Cincinnati-Hamilton, OH-KY area. The EPA's final technical support document (TSD) for the Cincinnati-Hamilton, Ohio-Kentucky area ⁴ provided support for the EPA's conclusion that all or portions of seven counties should be designated as nonattainment based on contribution to two violating monitors in Hamilton County, Ohio and one violating monitor in Butler County, Ohio. The final TSD notes that the violating monitor site in Butler County, Ohio [Air Quality Systems (AQS) ID 39-017-0020] began operation in the middle of 2011 as a special purpose monitor, as required by a permit for a nearby facility. Because the monitor had been in operation longer than the 2-year special purpose monitor timeframe (codified in 40 CFR part 58 subchapter C), the monitor automatically became comparable to the NAAQS. However, the EPA noted in the TSD that the 2015 annual ambient monitoring plan (AAMP) from the local agency that operates the site included a request to exempt that site from comparison to the 2012 PM2.5 NAAQS given that the intent of the monitor is to measure concentrations specifically at the facility as part of the facility's operating permit requirements. At the time of the initial designation for the Cincinnati-Hamilton, Ohio-Kentucky area, the EPA had not yet evaluated or responded to the exemption request and noted that even in the absence of a violating monitor in Butler County, Ohio the area would still be designated as nonattainment due to its contribution to two other violating monitors in Hamilton County, based on data from 2011-2013.

⁴ Available in the rulemaking docket, document number EPA-HQ-OAR-2012-0918-0322.

Subsequent to promulgation of the initial designations, the EPA agreed with Ohio's request in the 2015 AAMP to exempt AQS site ID 36-017-0020 in Butler County, Ohio from comparison to the 2012 PM2.5 NAAQS. To ensure continued protection of public health and welfare, the EPA has requested and the state of Ohio has agreed to operate a new monitoring site in the area that can be used in the future for comparison to the 2012 PM2.5 NAAQS. In addition, the availability of complete, quality-assured, and certified 2014 air quality data from monitors in the surrounding area shows that the area meets the 2012 PM2.5 NAAQS based on 2012-2014 data. Therefore, the EPA is changing the designation status of the Cincinnati-Hamilton, Ohio-Kentucky area from nonattainment to unclassifiable/attainment.

2. Additional information about the Louisville, KY-IN area. The EPA's initial nonattainment designation for the Louisville, Kentucky-Indiana area was based on ambient air quality data collected from 2011-2013 at a monitor in Clark County, Indiana showing a violation of the 2012 PM2.5 NAAQS. In the final TSD for the Louisville area,⁵ the EPA noted that air quality data in neighboring Jefferson County, Kentucky were invalid due to issues with the collection and analysis of PM2.5 filter-based samples. The EPA further explained that if Indiana elected to early certify 2014 ambient air quality data showing that the monitor in Clark County, Indiana meets the 2012 PM2.5 NAAQS for the design value period 2012-2014, the EPA would designate the Louisville, Kentucky-Indiana area as unclassifiable. Indiana submitted complete, quality-assured, and certified 2014 data from an ambient air quality monitor in Clark County, Indiana by the prescribed deadline of February 27, 2015, showing that the monitor is attaining the NAAQS. Accordingly, in conjunction with Indiana's submission of certified 2014 air quality data, and for the reasons explained in the January 15, 2015, rulemaking and supporting TSD, the EPA is changing the initial designation of the Louisville, Kentucky-Indiana area from nonattainment to unclassifiable. Since the data in the Jefferson County, Kentucky portion of this area are invalid because of significant problems with the collection and analysis of PM2.5 filter-based samples, an unclassifiable designation is appropriate because the EPA is not able to determine whether air quality in the entire Louisville, Kentucky-Indiana area is meeting the 2012 PM2.5 NAAQS, or whether the area is contributing to a potential violation in the Jefferson County, Kentucky portion of the area.

⁵ Available in the rulemaking docket, document number EPA-HQ-OAR-2012-0918-0322.

C. Minor Technical Amendment To Correct Inadvertent Error

This rulemaking also promulgates a minor technical amendment to correct an inadvertent error in the designation listing for Allegheny County in the state of Pennsylvania. This technical amendment clarifies that the entirety of Allegheny County, Pennsylvania is designated nonattainment. In the rule published on January 15, 2015, Allegheny County is listed twice in the designation tables for the 2012 PM2.5 NAAQS in 40 CFR part 81. In the first entry of the table at 40 CFR 81.339 table (80 FR 2264), Allegheny County is correctly listed as nonattainment. However, the second entry under “AQCR 197 Southwest Pennsylvania Intrastate,” lists the remainder of Allegheny County as unclassifiable/attainment (80 FR 2266). The EPA is amending the designation table for Pennsylvania to reflect that the entirety of Allegheny County, Pennsylvania, is nonattainment for the 2012 PM2.5 NAAQS, and that there is no portion of Allegheny County designated unclassifiable/attainment for the NAAQS.

III. Environmental Justice Considerations

The CAA requires the EPA to determine through a designation process whether an area meets or does not meet any new or revised national primary or secondary ambient air quality standard. This action includes initial designation determinations for several areas of the U.S. for the 2012 annual PM2.5 NAAQS, and includes revisions to prior designation decisions based on the availability of recent air quality data showing that areas meet the 2012 annual PM2.5 NAAQS. These designations ensure that the public is properly informed about the air quality in an area, and that in locations where air quality does not meet the NAAQS the relevant state authorities are required to initiate appropriate air quality management actions under the CAA to ensure that all those residing, working, attending school or otherwise present in those areas, regardless of minority and economic status, are protected.

IV. Statutory and Executive Order Reviews

A. Executive Order 12866: Regulatory Planning and Review and Executive Order 13563: Improving Regulation and Regulatory Review

This action is exempt from review by the Office of Management and Budget because it responds to the CAA requirement to promulgate air quality designations after promulgation of a new or revised NAAQS.

B. Paperwork Reduction Act (PRA)

This action does not impose an information collection burden under the PRA. This action fulfills the non-discretionary duty for the EPA to promulgate air quality designations after promulgation of a new or revised NAAQS and does not contain any information collection activities.

C. Regulatory Flexibility Act (RFA)

This action is not subject to the RFA. The RFA applies only to rules subject to notice and comment rulemaking requirements under the Administrative Procedure Act (APA), 5 U.S.C. 553, or any other statute. This rule is not subject to the APA but is subject to CAA section 107(d)(2)(B), which does not require notice and comment rulemaking to take this action.

D. Unfunded Mandates Reform Act (UMRA)

This action does not contain any unfunded mandate as described in UMRA, 2 U.S.C. 1531-1538 and does not significantly or uniquely affect small governments. The action implements mandates specifically and explicitly set forth in the CAA for the 2012 PM2.5 NAAQS (40 CFR 50.18). The CAA establishes the process whereby states take primary responsibility for developing plans to meet the 2012 PM2.5 NAAQS.

E. Executive Order 13132: Federalism

This action does not have federalism implications. It will not have a substantial direct effects on the states, on the relationship between the national government and the states, or on the distribution of power and responsibilities among the various levels of government.

F. Executive Order 13175: Consultation and Coordination With Indian Tribal Governments

This action does not have tribal implications. Areas of Indian country are not being designated as part of this action.

G. Executive Order 13045: Protection of Children From Environmental Health and Safety Risks

The EPA interprets Executive Order 13045 as applying to those regulatory actions that concern environmental health or safety risks that the EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution or Use

This action is not subject to Executive Order 13211, because it is not a significant regulatory action under Executive Order 12866.

I. National Technology Transfer and Advancement Act (NTTAA)

This rulemaking does not involve technical standards.

J. Executive Order 12898: Federal Actions To Address Environmental Justice in Minority Populations and Low-Income Populations

The EPA believes the human health or environmental risk addressed by this action will not have potential disproportionately high and adverse human health or environmental effects on any population, including any minority, low-income or indigenous populations because it does not affect the level of protection provided to human health or the environment. The results of this evaluation of environmental justice considerations is contained in section III of this preamble titled, “Environmental Justice Considerations.”

K. Congressional Review Act (CRA)

This action is subject to the CRA, and the EPA will submit a rule report to each House of the Congress and to the Comptroller General of the U.S. This action is not a “major rule” as defined by 5 U.S.C. 804(2).

L. Judicial Review

Section 307 (b)(1) of the CAA indicates which Federal Courts of Appeal have venue for petitions of review of final actions by the EPA. This section provides, in part, that petitions for review must be filed in the Court of Appeals for the District of Columbia Circuit: (i) When the agency action consists of “nationally applicable regulations promulgated, or final actions taken by the Administrator,” or (ii) when such action is locally or regionally applicable, if “such action is based on a determination of nationwide scope or effect and if in taking such action the Administrator finds and publishes that such action is based on such a determination.”

This final action designating areas across the U.S. for the 2012 annual PM2.5 NAAQS is “nationally applicable” within the meaning of section 307(b)(1). At the core of this final action is the EPA's interpretations of the definitions of nonattainment, attainment and unclassifiable under section 107(d)(1) of the CAA, and its application of those interpretations to areas across the country. For the same reasons, the Administrator is also determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this final action extends to numerous judicial circuits since the designations apply to areas across the country. In these circumstances, section 307(b)(1) and its legislative history calls for the Administrator to find the action to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: March 31, 2015.
Gina McCarthy,
Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.301 is amended by revising the table entitled “Alabama—2012 Annual PM2.5 NAAQS (Primary)” to read as follows:

§ 81.301 Alabama.

* * * * *

Alabama—2012 Annual PM2.5 NAAQS
[Primary]
Designated area ¹ | Designation: Date ² | Designation: Type | Classification: Date ² | Classification: Type
Statewide:
Autauga County |  | Unclassifiable/Attainment |  |
Baldwin County |  | Unclassifiable/Attainment |  |
Barbour County |  | Unclassifiable/Attainment |  |
Bibb County |  | Unclassifiable/Attainment |  |
Blount County |  | Unclassifiable/Attainment |  |
Bullock County |  | Unclassifiable/Attainment |  |
Butler County |  | Unclassifiable/Attainment |  |
Calhoun County |  | Unclassifiable/Attainment |  |
Chambers County |  | Unclassifiable/Attainment |  |
Cherokee County |  | Unclassifiable/Attainment |  |
Chilton County |  | Unclassifiable/Attainment |  |
Choctaw County |  | Unclassifiable/Attainment |  |
Clarke County |  | Unclassifiable/Attainment |  |
Clay County |  | Unclassifiable/Attainment |  |
Cleburne County |  | Unclassifiable/Attainment |  |
Coffee County |  | Unclassifiable/Attainment |  |
Colbert County |  | Unclassifiable/Attainment |  |
Conecuh County |  | Unclassifiable/Attainment |  |
Coosa County |  | Unclassifiable/Attainment |  |
Covington County |  | Unclassifiable/Attainment |  |
Crenshaw County |  | Unclassifiable/Attainment |  |
Cullman County |  | Unclassifiable/Attainment |  |
Dale County |  | Unclassifiable/Attainment |  |
Dallas County |  | Unclassifiable/Attainment |  |
DeKalb County |  | Unclassifiable/Attainment |  |
Elmore County |  | Unclassifiable/Attainment |  |
Escambia County |  | Unclassifiable/Attainment |  |
Etowah County |  | Unclassifiable/Attainment |  |
Fayette County |  | Unclassifiable/Attainment |  |
Franklin County |  | Unclassifiable/Attainment |  |
Geneva County |  | Unclassifiable/Attainment |  |
Greene County |  | Unclassifiable/Attainment |  |
Hale County |  | Unclassifiable/Attainment |  |
Henry County |  | Unclassifiable/Attainment |  |
Houston County |  | Unclassifiable/Attainment |  |
Jackson County |  | Unclassifiable/Attainment |  |
Jefferson County |  | Unclassifiable/Attainment |  |
Lamar County |  | Unclassifiable/Attainment |  |
Lauderdale County |  | Unclassifiable/Attainment |  |
Lawrence County |  | Unclassifiable/Attainment |  |
Lee County |  | Unclassifiable/Attainment |  |
Limestone County |  | Unclassifiable/Attainment |  |
Lowndes County |  | Unclassifiable/Attainment |  |
Macon County |  | Unclassifiable/Attainment |  |
Madison County |  | Unclassifiable/Attainment |  |
Marengo County |  | Unclassifiable/Attainment |  |
Marion County |  | Unclassifiable/Attainment |  |
Marshall County |  | Unclassifiable/Attainment |  |
Mobile County |  | Unclassifiable/Attainment |  |
Monroe County |  | Unclassifiable/Attainment |  |
Montgomery County |  | Unclassifiable/Attainment |  |
Morgan County |  | Unclassifiable/Attainment |  |
Perry County |  | Unclassifiable/Attainment |  |
Pickens County |  | Unclassifiable/Attainment |  |
Pike County |  | Unclassifiable/Attainment |  |
Randolph County |  | Unclassifiable/Attainment |  |
Russell County |  | Unclassifiable/Attainment |  |
Shelby County |  | Unclassifiable/Attainment |  |
St. Clair County |  | Unclassifiable/Attainment |  |
Sumter County |  | Unclassifiable/Attainment |  |
Talladega County |  | Unclassifiable/Attainment |  |
Tallapoosa County |  | Unclassifiable/Attainment |  |
Tuscaloosa County |  | Unclassifiable/Attainment |  |
Walker County |  | Unclassifiable/Attainment |  |
Washington County |  | Unclassifiable/Attainment |  |
Wilcox County |  | Unclassifiable/Attainment |  |
Winston County |  | Unclassifiable/Attainment |  |
¹ Includes areas of Indian country located in each county or area, except as otherwise specified.
² This date is April 15, 2015, unless otherwise noted.

* * * * *

3. Section 81.311 is amended by revising the table entitled “Georgia—2012 Annual PM2.5 NAAQS (Primary)” to read as follows:

§ 81.311 Georgia.

* * * * *

Georgia—2012 Annual PM2.5 NAAQS
[Primary]
Designated area ¹ | Designation: Date ² | Designation: Type | Classification: Date ² | Classification: Type
Statewide:
Appling County |  | Unclassifiable/Attainment |  |
Atkinson County |  | Unclassifiable/Attainment |  |
Bacon County |  | Unclassifiable/Attainment |  |
Baker County |  | Unclassifiable/Attainment |  |
Baldwin County |  | Unclassifiable/Attainment |  |
Banks County |  | Unclassifiable/Attainment |  |
Barrow County |  | Unclassifiable/Attainment |  |
Bartow County |  |  |  |
Ben Hill County |  | Unclassifiable/Attainment |  |
Berrien County |  | Unclassifiable/Attainment |  |
Bibb County |  | Unclassifiable/Attainment |  |
Bleckley County |  | Unclassifiable/Attainment |  |
Brantley County |  | Unclassifiable/Attainment |  |
Brooks County |  | Unclassifiable/Attainment |  |
Bryan County |  | Unclassifiable/Attainment |  |
Bulloch County |  | Unclassifiable/Attainment |  |
Burke County |  | Unclassifiable/Attainment |  |
Butts County |  | Unclassifiable/Attainment |  |
Calhoun County |  | Unclassifiable/Attainment |  |
Camden County |  | Unclassifiable/Attainment |  |
Candler County |  | Unclassifiable/Attainment |  |
Carroll County |  | Unclassifiable/Attainment |  |
Catoosa County |  | Unclassifiable/Attainment |  |
Charlton County |  | Unclassifiable/Attainment |  |
Chatham County |  | Unclassifiable/Attainment |  |
Chattahoochee County |  | Unclassifiable/Attainment |  |
Chattooga County |  | Unclassifiable/Attainment |  |
Cherokee County |  |  |  |
Clarke County |  | Unclassifiable/Attainment |  |
Clay County |  | Unclassifiable/Attainment |  |
Clayton County |  |  |  |
Clinch County |  | Unclassifiable/Attainment |  |
Cobb County |  |  |  |
Coffee County |  | Unclassifiable/Attainment |  |
Colquitt County |  | Unclassifiable/Attainment |  |
Columbia County |  | Unclassifiable/Attainment |  |
Cook County |  | Unclassifiable/Attainment |  |
Coweta County |  |  |  |
Crawford County |  | Unclassifiable/Attainment |  |
Crisp County |  | Unclassifiable/Attainment |  |
Dade County |  | Unclassifiable/Attainment |  |
Dawson County |  | Unclassifiable/Attainment |  |
Decatur County |  | Unclassifiable/Attainment |  |
DeKalb County |  |  |  |
Dodge County |  | Unclassifiable/Attainment |  |
Dooly County |  | Unclassifiable/Attainment |  |
Dougherty County |  |  |  |
Douglas County |  |  |  |
Early County |  | Unclassifiable/Attainment |  |
Echols County |  | Unclassifiable/Attainment |  |
Effingham County |  | Unclassifiable/Attainment |  |
Elbert County |  | Unclassifiable/Attainment |  |
Emanuel County |  | Unclassifiable/Attainment |  |
Evans County |  | Unclassifiable/Attainment |  |
Fannin County |  | Unclassifiable/Attainment |  |
Fayette County |  | Unclassifiable/Attainment |  |
Floyd County |  | Unclassifiable/Attainment |  |
Forsyth County |  |  |  |
Franklin County |  | Unclassifiable/Attainment |  |
Fulton County |  |  |  |
Gilmer County |  | Unclassifiable/Attainment |  |
Glascock County |  | Unclassifiable/Attainment |  |
Glynn County |  |  |  |
Gordon County |  | Unclassifiable/Attainment |  |
Grady County |  | Unclassifiable/Attainment |  |
Greene County |  | Unclassifiable/Attainment |  |
Gwinnett County |  |  |  |
Habersham County |  | Unclassifiable/Attainment |  |
Hall County |  | Unclassifiable/Attainment |  |
Hancock County |  | Unclassifiable/Attainment |  |
Haralson County |  | Unclassifiable/Attainment |  |
Harris County |  | Unclassifiable/Attainment |  |
Hart County |  | Unclassifiable/Attainment |  |
Heard County |  | Unclassifiable/Attainment |  |
Henry County |  |  |  |
Houston County |  | Unclassifiable/Attainment |  |
Irwin County |  | Unclassifiable/Attainment |  |
Jackson County |  | Unclassifiable/Attainment |  |
Jasper County |  | Unclassifiable/Attainment |  |
Jeff Davis County |  | Unclassifiable/Attainment |  |
Jefferson County |  | Unclassifiable/Attainment |  |
Jenkins County |  | Unclassifiable/Attainment |  |
Johnson County |  | Unclassifiable/Attainment |  |
Jones County |  | Unclassifiable/Attainment |  |
Lamar County |  | Unclassifiable/Attainment |  |
Lanier County |  | Unclassifiable/Attainment |  |
Laurens County |  | Unclassifiable/Attainment |  |
Lee County |  | Unclassifiable/Attainment |  |
Liberty County |  | Unclassifiable/Attainment |  |
Lincoln County |  | Unclassifiable/Attainment |  |
Long County |  | Unclassifiable/Attainment |  |
Lowndes County |  | Unclassifiable/Attainment |  |
Lumpkin County |  | Unclassifiable/Attainment |  |
McDuffie County |  | Unclassifiable/Attainment |  |
McIntosh County |  | Unclassifiable/Attainment |  |
Macon County |  | Unclassifiable/Attainment |  |
Madison County |  | Unclassifiable/Attainment |  |
Marion County |  | Unclassifiable/Attainment |  |
Meriwether County |  | Unclassifiable/Attainment |  |
Miller County |  | Unclassifiable/Attainment |  |
Mitchell County |  | Unclassifiable/Attainment |  |
Monroe County |  | Unclassifiable/Attainment |  |
Montgomery County |  | Unclassifiable/Attainment |  |
Morgan County |  | Unclassifiable/Attainment |  |
Murray County |  | Unclassifiable/Attainment |  |
Muscogee County |  | Unclassifiable/Attainment |  |
Newton County |  | Unclassifiable/Attainment |  |
Oconee County |  | Unclassifiable/Attainment |  |
Oglethorpe County |  | Unclassifiable/Attainment |  |
Paulding County |  |  |  |
Peach County |  | Unclassifiable/Attainment |  |
Pickens County |  | Unclassifiable/Attainment |  |
Pierce County |  | Unclassifiable/Attainment |  |
Pike County |  | Unclassifiable/Attainment |  |
Polk County |  | Unclassifiable/Attainment |  |
Pulaski County |  | Unclassifiable/Attainment |  |
Putnam County |  | Unclassifiable/Attainment |  |
Quitman County |  | Unclassifiable/Attainment |  |
Rabun County |  | Unclassifiable/Attainment |  |
Randolph County |  | Unclassifiable/Attainment |  |
Richmond County |  | Unclassifiable/Attainment |  |
Rockdale County |  | Unclassifiable/Attainment |  |
Schley County |  | Unclassifiable/Attainment |  |
Screven County |  | Unclassifiable/Attainment |  |
Seminole County |  | Unclassifiable/Attainment |  |
Spalding County |  | Unclassifiable/Attainment |  |
Stephens County |  | Unclassifiable/Attainment |  |
Stewart County |  | Unclassifiable/Attainment |  |
Sumter County |  | Unclassifiable/Attainment |  |
Talbot County |  | Unclassifiable/Attainment |  |
Taliaferro County |  | Unclassifiable/Attainment |  |
Tattnall County |  | Unclassifiable/Attainment |  |
Taylor County |  | Unclassifiable/Attainment |  |
Telfair County |  | Unclassifiable/Attainment |  |
Terrell County |  | Unclassifiable/Attainment |  |
Thomas County |  | Unclassifiable/Attainment |  |
Tift County |  | Unclassifiable/Attainment |  |
Toombs County |  | Unclassifiable/Attainment |  |
Towns County |  | Unclassifiable/Attainment |  |
Treutlen County |  | Unclassifiable/Attainment |  |
Troup County |  | Unclassifiable/Attainment |  |
Turner County |  | Unclassifiable/Attainment |  |
Twiggs County |  | Unclassifiable/Attainment |  |
Union County |  | Unclassifiable/Attainment |  |
Upson County |  | Unclassifiable/Attainment |  |
Walker County |  | Unclassifiable/Attainment |  |
Walton County |  | Unclassifiable/Attainment |  |
Ware County |  | Unclassifiable/Attainment |  |
Warren County |  | Unclassifiable/Attainment |  |
Washington County |  | Unclassifiable/Attainment |  |
Wayne County |  | Unclassifiable/Attainment |  |
Webster County |  | Unclassifiable/Attainment |  |
Wheeler County |  | Unclassifiable/Attainment |  |
White County |  | Unclassifiable/Attainment |  |
Whitfield County |  | Unclassifiable/Attainment |  |
Wilcox County |  | Unclassifiable/Attainment |  |
Wilkes County |  | Unclassifiable/Attainment |  |
Wilkinson County |  | Unclassifiable/Attainment |  |
Worth County |  | Unclassifiable/Attainment |  |
¹ Includes areas of Indian country located in each county or area, except as otherwise specified.
² This date is April 15, 2015, unless otherwise noted.

* * * * *

4. Section 81.315 is amended by revising the table entitled “Indiana—2012 Annual PM2.5 NAAQS (Primary)” to read as follows:

§ 81.315 Indiana.

* * * * *

Indiana—2012 Annual PM2.5 NAAQS
[Primary]
Designated area ¹ | Designation: Date ² | Designation: Type | Classification: Date ² | Classification: Type
Louisville, KY-IN:
Clark County |  | Unclassifiable |  |
Floyd County |  | Unclassifiable |  |
Chicago Area, IL-IN:
Lake County |  | Unclassifiable |  |
Porter County |  | Unclassifiable |  |
Rest of State:
Adams County |  | Unclassifiable/Attainment |  |
Allen County |  | Unclassifiable/Attainment |  |
Bartholomew County |  | Unclassifiable/Attainment |  |
Benton County |  | Unclassifiable/Attainment |  |
Blackford County |  | Unclassifiable/Attainment |  |
Boone County |  | Unclassifiable/Attainment |  |
Brown County |  | Unclassifiable/Attainment |  |
Carroll County |  | Unclassifiable/Attainment |  |
Cass County |  | Unclassifiable/Attainment |  |
Clay County |  | Unclassifiable/Attainment |  |
Clinton County |  | Unclassifiable/Attainment |  |
Crawford County |  | Unclassifiable/Attainment |  |
Daviess County |  | Unclassifiable/Attainment |  |
DeKalb County |  | Unclassifiable/Attainment |  |
Dearborn County |  | Unclassifiable/Attainment |  |
Decatur County |  | Unclassifiable/Attainment |  |
Delaware County |  | Unclassifiable/Attainment |  |
Dubois County |  | Unclassifiable/Attainment |  |
Elkhart County |  | Unclassifiable/Attainment |  |
Fayette County |  | Unclassifiable/Attainment |  |
Fountain County |  | Unclassifiable/Attainment |  |
Franklin County |  | Unclassifiable/Attainment |  |
Fulton County |  | Unclassifiable/Attainment |  |
Gibson County |  | Unclassifiable/Attainment |  |
Grant County |  | Unclassifiable/Attainment |  |
Greene County |  | Unclassifiable/Attainment |  |
Hamilton County |  | Unclassifiable/Attainment |  |
Hancock County |  | Unclassifiable/Attainment |  |
Harrison County |  | Unclassifiable/Attainment |  |
Hendricks County |  | Unclassifiable/Attainment |  |
Henry County |  | Unclassifiable/Attainment |  |
Howard County |  | Unclassifiable/Attainment |  |
Huntington County |  | Unclassifiable/Attainment |  |
Jackson County |  | Unclassifiable/Attainment |  |
Jasper County |  | Unclassifiable/Attainment |  |
Jay County |  | Unclassifiable/Attainment |  |
Jefferson County |  | Unclassifiable/Attainment |  |
Jennings County |  | Unclassifiable/Attainment |  |
Johnson County |  | Unclassifiable/Attainment |  |
Knox County |  | Unclassifiable/Attainment |  |
Kosciusko County |  | Unclassifiable/Attainment |  |
LaGrange County |  | Unclassifiable/Attainment |  |
La Porte County |  | Unclassifiable/Attainment |  |
Lawrence County |  | Unclassifiable/Attainment |  |
Madison County |  | Unclassifiable/Attainment |  |
Marion County |  | Unclassifiable/Attainment |  |
Marshall County |  | Unclassifiable/Attainment |  |
Martin County |  | Unclassifiable/Attainment |  |
Miami County |  | Unclassifiable/Attainment |  |
Monroe County |  | Unclassifiable/Attainment |  |
Montgomery County |  | Unclassifiable/Attainment |  |
Morgan County |  | Unclassifiable/Attainment |  |
Newton County |  | Unclassifiable/Attainment |  |
Noble County |  | Unclassifiable/Attainment |  |
Ohio County |  | Unclassifiable/Attainment |  |
Orange County |  | Unclassifiable/Attainment |  |
Owen County |  | Unclassifiable/Attainment |  |
Parke County |  | Unclassifiable/Attainment |  |
Perry County |  | Unclassifiable/Attainment |  |
Pike County |  | Unclassifiable/Attainment |  |
Posey County |  | Unclassifiable/Attainment |  |
Pulaski County |  | Unclassifiable/Attainment |  |
Putnam County |  | Unclassifiable/Attainment |  |
Randolph County |  | Unclassifiable/Attainment |  |
Ripley County |  | Unclassifiable/Attainment |  |
Rush County |  | Unclassifiable/Attainment |  |
Scott County |  | Unclassifiable/Attainment |  |
Shelby County |  | Unclassifiable/Attainment |  |
Spencer County |  | Unclassifiable/Attainment |  |
St. Joseph County |  | Unclassifiable/Attainment |  |
Starke County |  | Unclassifiable/Attainment |  |
Steuben County |  | Unclassifiable/Attainment |  |
Sullivan County |  | Unclassifiable/Attainment |  |
Switzerland County |  | Unclassifiable/Attainment |  |
Tippecanoe County |  | Unclassifiable/Attainment |  |
Tipton County |  | Unclassifiable/Attainment |  |
Union County |  | Unclassifiable/Attainment |  |
Vanderburgh County |  | Unclassifiable/Attainment |  |
Vermillion County |  | Unclassifiable/Attainment |  |
Vigo County |  | Unclassifiable/Attainment |  |
Wabash County |  | Unclassifiable/Attainment |  |
Warren County |  | Unclassifiable/Attainment |  |
Warrick County |  | Unclassifiable/Attainment |  |
Washington County |  | Unclassifiable/Attainment |  |
Wayne County |  | Unclassifiable/Attainment |  |
Wells County |  | Unclassifiable/Attainment |  |
White County |  | Unclassifiable/Attainment |  |
Whitley County |  | Unclassifiable/Attainment |  |
¹ Includes areas of Indian country located in each county or area, except as otherwise specified.
² This date is April 15, 2015, unless otherwise noted.

* * * * *

5. Section 81.318 is amended by revising the table entitled “Kentucky—2012 Annual PM2.5 NAAQS (Primary)” to read as follows:

§ 81.318 Kentucky.

* * * * *

Kentucky—2012 Annual PM2.5 NAAQS
[Primary]
Designated area ¹ | Designation: Date ² | Designation: Type | Classification: Date ² | Classification: Type
Louisville, KY-IN:
Bullitt County (part) |  | Unclassifiable |  |
2010 Census tracts: 201.01, 201.02, 201.03, 202.01, 202.02. 203, 204, 205, 206.01, 206.02, 207.01, 207.02, 208, 211.01 and 211.02 |  |  |  |
Jefferson County |  | Unclassifiable |  |
Rest of State:
Adair County |  | Unclassifiable/Attainment |  |
Allen County |  | Unclassifiable/Attainment |  |
Anderson County |  | Unclassifiable/Attainment |  |
Ballard County |  | Unclassifiable/Attainment |  |
Barren County |  | Unclassifiable/Attainment |  |
Bath County |  | Unclassifiable/Attainment |  |
Bell County |  | Unclassifiable/Attainment |  |
Boone |  | Unclassifiable/Attainment |  |
Bourbon County |  | Unclassifiable/Attainment |  |
Boyd County |  | Unclassifiable/Attainment |  |
Boyle County |  | Unclassifiable/Attainment |  |
Bracken County |  | Unclassifiable/Attainment |  |
Breathitt County |  | Unclassifiable/Attainment |  |
Breckinridge County |  | Unclassifiable/Attainment |  |
Bullitt County (remainder) |  | Unclassifiable/Attainment |  |
Butler County |  | Unclassifiable/Attainment |  |
Caldwell County |  | Unclassifiable/Attainment |  |
Calloway County |  | Unclassifiable/Attainment |  |
Campbell County |  | Unclassifiable/Attainment |  |
Carlisle County |  | Unclassifiable/Attainment |  |
Carroll County |  | Unclassifiable/Attainment |  |
Carter County |  | Unclassifiable/Attainment |  |
Casey County |  | Unclassifiable/Attainment |  |
Christian County |  | Unclassifiable/Attainment |  |
Clark County |  | Unclassifiable/Attainment |  |
Clay County |  | Unclassifiable/Attainment |  |
Clinton County |  | Unclassifiable/Attainment |  |
Crittenden County |  | Unclassifiable/Attainment |  |
Cumberland County |  | Unclassifiable/Attainment |  |
Daviess County |  | Unclassifiable/Attainment |  |
Edmonson County |  | Unclassifiable/Attainment |  |
Elliott County |  | Unclassifiable/Attainment |  |
Estill County |  | Unclassifiable/Attainment |  |
Fayette County |  | Unclassifiable/Attainment |  |
Fleming County |  | Unclassifiable/Attainment |  |
Floyd County |  | Unclassifiable/Attainment |  |
Franklin County |  | Unclassifiable/Attainment |  |
Fulton County |  | Unclassifiable/Attainment |  |
Gallatin County |  | Unclassifiable/Attainment |  |
Garrard County |  | Unclassifiable/Attainment |  |
Grant County |  | Unclassifiable/Attainment |  |
Graves County |  | Unclassifiable/Attainment |  |
Grayson County |  | Unclassifiable/Attainment |  |
Green County |  | Unclassifiable/Attainment |  |
Greenup County |  | Unclassifiable/Attainment |  |
Hancock County |  | Unclassifiable/Attainment |  |
Hardin County |  | Unclassifiable/Attainment |  |
Harlan County |  | Unclassifiable/Attainment |  |
Harrison County |  | Unclassifiable/Attainment |  |
Hart County |  | Unclassifiable/Attainment |  |
Henderson County |  | Unclassifiable/Attainment |  |
Henry County |  | Unclassifiable/Attainment |  |
Hickman County |  | Unclassifiable/Attainment |  |
Hopkins County |  | Unclassifiable/Attainment |  |
Jackson County |  | Unclassifiable/Attainment |  |
Jessamine County |  | Unclassifiable/Attainment |  |
Johnson County |  | Unclassifiable/Attainment |  |
Kenton County |  | Unclassifiable/Attainment |  |
Knott County |  | Unclassifiable/Attainment |  |
Knox County |  | Unclassifiable/Attainment |  |
Larue County |  | Unclassifiable/Attainment |  |
Laurel County |  | Unclassifiable/Attainment |  |
Lawrence County |  | Unclassifiable/Attainment |  |
Lee County |  | Unclassifiable/Attainment |  |
Leslie County |  | Unclassifiable/Attainment |  |
Letcher County |  | Unclassifiable/Attainment |  |
Lewis County |  | Unclassifiable/Attainment |  |
Lincoln County |  | Unclassifiable/Attainment |  |
Livingston County |  | Unclassifiable/Attainment |  |
Logan County |  | Unclassifiable/Attainment |  |
Lyon County |  | Unclassifiable/Attainment |  |
McCracken County |  | Unclassifiable/Attainment |  |
McCreary County |  | Unclassifiable/Attainment |  |
McLean County |  | Unclassifiable/Attainment |  |
Madison County |  | Unclassifiable/Attainment |  |
Magoffin County |  | Unclassifiable/Attainment |  |
Marion County |  | Unclassifiable/Attainment |  |
Marshall County |  | Unclassifiable/Attainment |  |
Martin County |  | Unclassifiable/Attainment |  |
Mason County |  | Unclassifiable/Attainment |  |
Meade County |  | Unclassifiable/Attainment |  |
Menifee County |  | Unclassifiable/Attainment |  |
Mercer County |  | Unclassifiable/Attainment |  |
Metcalfe County |  | Unclassifiable/Attainment |  |
Monroe County |  | Unclassifiable/Attainment |  |
Montgomery County |  | Unclassifiable/Attainment |  |
Morgan County |  | Unclassifiable/Attainment |  |
Muhlenberg County |  | Unclassifiable/Attainment |  |
Nelson County |  | Unclassifiable/Attainment |  |
Nicholas County |  | Unclassifiable/Attainment |  |
Ohio County |  | Unclassifiable/Attainment |  |
Oldham County |  | Unclassifiable/Attainment |  |
Owen County |  | Unclassifiable/Attainment |  |
Owsley County |  | Unclassifiable/Attainment |  |
Pendleton County |  | Unclassifiable/Attainment |  |
Perry County |  | Unclassifiable/Attainment |  |
Pike County |  | Unclassifiable/Attainment |  |
Powell County |  | Unclassifiable/Attainment |  |
Pulaski County |  | Unclassifiable/Attainment |  |
Robertson County |  | Unclassifiable/Attainment |  |
Rockcastle County |  | Unclassifiable/Attainment |  |
Rowan County |  | Unclassifiable/Attainment |  |
Russell County |  | Unclassifiable/Attainment |  |
Scott County |  | Unclassifiable/Attainment |  |
Shelby County |  | Unclassifiable/Attainment |  |
Simpson County |  | Unclassifiable/Attainment |  |
Spencer County |  | Unclassifiable/Attainment |  |
Taylor County |  | Unclassifiable/Attainment |  |
Todd County |  | Unclassifiable/Attainment |  |
Trigg County |  | Unclassifiable/Attainment |  |
Trimble County |  | Unclassifiable/Attainment |  |
Union County |  | Unclassifiable/Attainment |  |
Warren County |  | Unclassifiable/Attainment |  |
Washington County |  | Unclassifiable/Attainment |  |
Wayne County |  | Unclassifiable/Attainment |  |
Webster County |  | Unclassifiable/Attainment |  |
Whitley County |  | Unclassifiable/Attainment |  |
Wolfe County |  | Unclassifiable/Attainment |  |
Woodford County |  | Unclassifiable/Attainment |  |
¹ Includes areas of Indian country located in each county or area, except as otherwise specified.
² This date is April 15, 2015, unless otherwise noted.

* * * * *

6. Section 81.336 is amended by revising the table entitled “Ohio—2012 Annual PM2.5 NAAQS (Primary)” to read as follows:

§ 81.336 Ohio.

* * * * *

Ohio—2012 Annual PM 2.5 NAAQS
[Primary]
Designated area ¹ | Designation: Date ² | Designation: Type | Classification: Date ² | Classification: Type
Cleveland, OH:
Cuyahoga County |  | Nonattainment |  | Moderate.
Lorain County |  | Nonattainment |  | Moderate.
Rest of State:
Adams County |  | Unclassifiable/Attainment |  |
Allen County |  | Unclassifiable/Attainment |  |
Ashland County |  | Unclassifiable/Attainment |  |
Ashtabula County |  | Unclassifiable/Attainment |  |
Athens County |  | Unclassifiable/Attainment |  |
Auglaize County |  | Unclassifiable/Attainment |  |
Belmont County |  | Unclassifiable/Attainment |  |
Brown County |  | Unclassifiable/Attainment |  |
Butler County |  | Unclassifiable/Attainment |  |
Carroll County |  | Unclassifiable/Attainment |  |
Champaign County |  | Unclassifiable/Attainment |  |
Clark County |  | Unclassifiable/Attainment |  |
Clermont County |  | Unclassifiable/Attainment |  |
Clinton County |  | Unclassifiable/Attainment |  |
Columbiana County |  | Unclassifiable/Attainment |  |
Coshocton County |  | Unclassifiable/Attainment |  |
Crawford County |  | Unclassifiable/Attainment |  |
Darke County |  | Unclassifiable/Attainment |  |
Defiance County |  | Unclassifiable/Attainment |  |
Delaware County |  | Unclassifiable/Attainment |  |
Erie County |  | Unclassifiable/Attainment |  |
Fairfield County |  | Unclassifiable/Attainment |  |
Fayette County |  | Unclassifiable/Attainment |  |
Franklin County |  | Unclassifiable/Attainment |  |
Fulton County |  | Unclassifiable/Attainment |  |
Gallia County |  | Unclassifiable/Attainment |  |
Geauga County |  | Unclassifiable/Attainment |  |
Greene County |  | Unclassifiable/Attainment |  |
Guernsey County |  | Unclassifiable/Attainment |  |
Hamilton County |  | Unclassifiable/Attainment |  |
Hancock County |  | Unclassifiable/Attainment |  |
Hardin County |  | Unclassifiable/Attainment |  |
Harrison County |  | Unclassifiable/Attainment |  |
Henry County |  | Unclassifiable/Attainment |  |
Highland County |  | Unclassifiable/Attainment |  |
Hocking County |  | Unclassifiable/Attainment |  |
Holmes County |  | Unclassifiable/Attainment |  |
Huron County |  | Unclassifiable/Attainment |  |
Jackson County |  | Unclassifiable/Attainment |  |
Jefferson County |  | Unclassifiable/Attainment |  |
Knox County |  | Unclassifiable/Attainment |  |
Lake County |  | Unclassifiable/Attainment |  |
Lawrence County |  | Unclassifiable/Attainment |  |
Licking County |  | Unclassifiable/Attainment |  |
Logan County |  | Unclassifiable/Attainment |  |
Lucas County |  | Unclassifiable/Attainment |  |
Madison County |  | Unclassifiable/Attainment |  |
Mahoning County |  | Unclassifiable/Attainment |  |
Marion County |  | Unclassifiable/Attainment |  |
Medina County |  | Unclassifiable/Attainment |  |
Meigs County |  | Unclassifiable/Attainment |  |
Mercer County |  | Unclassifiable/Attainment |  |
Miami County |  | Unclassifiable/Attainment |  |
Monroe County |  | Unclassifiable/Attainment |  |
Montgomery County |  | Unclassifiable/Attainment |  |
Morgan County |  | Unclassifiable/Attainment |  |
Morrow County |  | Unclassifiable/Attainment |  |
Muskingum County |  | Unclassifiable/Attainment |  |
Noble County |  | Unclassifiable/Attainment |  |
Ottawa County |  | Unclassifiable/Attainment |  |
Paulding County |  | Unclassifiable/Attainment |  |
Perry County |  | Unclassifiable/Attainment |  |
Pickaway County |  | Unclassifiable/Attainment |  |
Pike County |  | Unclassifiable/Attainment |  |
Portage County |  | Unclassifiable/Attainment |  |
Preble County |  | Unclassifiable/Attainment |  |
Putnam County |  | Unclassifiable/Attainment |  |
Richland County |  | Unclassifiable/Attainment |  |
Ross County |  | Unclassifiable/Attainment |  |
Sandusky County |  | Unclassifiable/Attainment |  |
Scioto County |  | Unclassifiable/Attainment |  |
Seneca County |  | Unclassifiable/Attainment |  |
Shelby County |  | Unclassifiable/Attainment |  |
Stark County |  | Unclassifiable/Attainment |  |
Summit County |  | Unclassifiable/Attainment |  |
Trumbull County |  | Unclassifiable/Attainment |  |
Tuscarawas County |  | Unclassifiable/Attainment |  |
Union County |  | Unclassifiable/Attainment |  |
Van Wert County |  | Unclassifiable/Attainment |  |
Vinton County |  | Unclassifiable/Attainment |  |
Warren County |  | Unclassifiable/Attainment |  |
Washington County |  | Unclassifiable/Attainment |  |
Wayne County |  | Unclassifiable/Attainment |  |
Williams County |  | Unclassifiable/Attainment |  |
Wood County |  | Unclassifiable/Attainment |  |
Wyandot County |  | Unclassifiable/Attainment |  |
¹ Includes areas of Indian country located in each county or area, except as otherwise specified.
² This date is April 15, 2015, unless otherwise noted.

* * * * *

7. Section 81.339 is amended by revising the table entitled “Pennsylvania—2012 Annual PM 2.5 NAAQS (Primary)” to read as follows:

§ 81.339 Pennsylvania.

* * * * *

Pennsylvania—2012 Annual PM2.5 NAAQS
[Primary]
Designated area ¹ | Designation: Date ² | Designation: Type | Classification: Date ² | Classification: Type
Allegheny County, PA:
Allegheny County |  | Nonattainment |  | Moderate.
Delaware County, PA:
Delaware County |  | Nonattainment |  | Moderate.
Lebanon County, PA:
Lebanon County |  | Nonattainment |  | Moderate.
Rest of State:
AQCR 151 Northeast Pennsylvania-Upper Delaware Valley Interstate:
Berks County |  | Unclassifiable/Attainment |  |
Bradford County |  | Unclassifiable/Attainment |  |
Carbon County |  | Unclassifiable/Attainment |  |
Lackawanna County |  | Unclassifiable/Attainment |  |
Lehigh County |  | Unclassifiable/Attainment |  |
Luzerne County |  | Unclassifiable/Attainment |  |
Monroe County |  | Unclassifiable/Attainment |  |
Northampton County |  | Unclassifiable/Attainment |  |
Pike County |  | Unclassifiable/Attainment |  |
Schuylkill County |  | Unclassifiable/Attainment |  |
Sullivan County |  | Unclassifiable/Attainment |  |
Susquehanna County |  | Unclassifiable/Attainment |  |
Tioga County |  | Unclassifiable/Attainment |  |
Wayne County |  | Unclassifiable/Attainment |  |
Wyoming County |  | Unclassifiable/Attainment |  |
AQCR 178 Northwest Pennsylvania-Youngstown Interstate:
Cameron County |  | Unclassifiable/Attainment |  |
Clarion County |  | Unclassifiable/Attainment |  |
Clearfield County |  | Unclassifiable/Attainment |  |
Crawford County |  | Unclassifiable/Attainment |  |
Elk County |  | Unclassifiable/Attainment |  |
Erie County |  | Unclassifiable/Attainment |  |
Forest County |  | Unclassifiable/Attainment |  |
Jefferson County |  | Unclassifiable/Attainment |  |
Lawrence County |  | Unclassifiable/Attainment |  |
McKean County |  | Unclassifiable/Attainment |  |
Mercer County |  | Unclassifiable/Attainment |  |
Potter County |  | Unclassifiable/Attainment |  |
Venango County |  | Unclassifiable/Attainment |  |
Warren County |  | Unclassifiable/Attainment |  |
AQCR 45 Metropolitan Philadelphia Intrastate:
Bucks County |  | Unclassifiable/Attainment |  |
Chester County |  | Unclassifiable/Attainment |  |
Montgomery County |  | Unclassifiable/Attainment |  |
Philadelphia County |  | Unclassifiable/Attainment |  |
AQCR 195 Central Pennsylvania Intrastate:
Bedford County |  | Unclassifiable/Attainment |  |
Blair County |  | Unclassifiable/Attainment |  |
Cambria County |  | Unclassifiable/Attainment |  |
Centre County |  | Unclassifiable/Attainment |  |
Clinton County |  | Unclassifiable/Attainment |  |
Columbia County |  | Unclassifiable/Attainment |  |
Fulton County |  | Unclassifiable/Attainment |  |
Huntingdon County |  | Unclassifiable/Attainment |  |
Juniata County |  | Unclassifiable/Attainment |  |
Lycoming County |  | Unclassifiable/Attainment |  |
Mifflin County |  | Unclassifiable/Attainment |  |
Montour County |  | Unclassifiable/Attainment |  |
Northumberland County |  | Unclassifiable/Attainment |  |
Snyder County |  | Unclassifiable/Attainment |  |
Somerset County |  | Unclassifiable/Attainment |  |
Union County |  | Unclassifiable/Attainment |  |
AQCR 196 South Central Pennsylvania Intrastate:
Adams County |  | Unclassifiable/Attainment |  |
Cumberland County |  | Unclassifiable/Attainment |  |
Dauphin County |  | Unclassifiable/Attainment |  |
Franklin County |  | Unclassifiable/Attainment |  |
Lancaster County |  | Unclassifiable/Attainment |  |
Perry County |  | Unclassifiable/Attainment |  |
York County |  | Unclassifiable/Attainment |  |
AQCR 197 Southwest Pennsylvania Intrastate:
Armstrong County |  | Unclassifiable/Attainment |  |
Beaver County |  | Unclassifiable/Attainment |  |
Butler County |  | Unclassifiable/Attainment |  |
Fayette County |  | Unclassifiable/Attainment |  |
Greene County |  | Unclassifiable/Attainment |  |
Indiana County |  | Unclassifiable/Attainment |  |
Washington County |  | Unclassifiable/Attainment |  |
Westmoreland County |  | Unclassifiable/Attainment |  |
¹ Includes areas of Indian country located in each county or area, except as otherwise specified.
² This date is April 15, 2015, unless otherwise noted.

* * * * *

8. Section 81.341 is amended by revising the table entitled “South Carolina—2012 Annual PM2.5 NAAQS (Primary)” to read as follows:

§ 81.341 South Carolina.

* * * * *

South Carolina—2012 Annual PM 2.5 NAAQS
[Primary]
Designated area ¹ | Designation: Date ² | Designation: Type | Classification: Date ² | Classification: Type
Statewide:
Abbeville County |  | Unclassifiable/Attainment |  |
Aiken County |  | Unclassifiable/Attainment |  |
Allendale County |  | Unclassifiable/Attainment |  |
Anderson County |  | Unclassifiable/Attainment |  |
Bamberg County |  | Unclassifiable/Attainment |  |
Barnwell County |  | Unclassifiable/Attainment |  |
Beaufort County |  | Unclassifiable/Attainment |  |
Berkeley County |  | Unclassifiable/Attainment |  |
Calhoun County |  | Unclassifiable/Attainment |  |
Charleston County |  | Unclassifiable/Attainment |  |
Cherokee County |  | Unclassifiable/Attainment |  |
Chester County |  | Unclassifiable/Attainment |  |
Chesterfield County |  | Unclassifiable/Attainment |  |
Clarendon County |  | Unclassifiable/Attainment |  |
Colleton County |  | Unclassifiable/Attainment |  |
Darlington County |  | Unclassifiable/Attainment |  |
Dillon County |  | Unclassifiable/Attainment |  |
Dorchester County |  | Unclassifiable/Attainment |  |
Edgefield County |  | Unclassifiable/Attainment |  |
Fairfield County |  | Unclassifiable/Attainment |  |
Florence County |  | Unclassifiable/Attainment |  |
Georgetown County |  | Unclassifiable/Attainment |  |
Greenwood County |  | Unclassifiable/Attainment |  |
Greenville County |  | Unclassifiable/Attainment |  |
Hampton County |  | Unclassifiable/Attainment |  |
Horry County |  | Unclassifiable/Attainment |  |
Jasper County |  | Unclassifiable/Attainment |  |
Kershaw County |  | Unclassifiable/Attainment |  |
Lancaster County |  | Unclassifiable/Attainment |  |
Laurens County |  | Unclassifiable/Attainment |  |
Lee County |  | Unclassifiable/Attainment |  |
Lexington County |  | Unclassifiable/Attainment |  |
McCormick County |  | Unclassifiable/Attainment |  |
Marion County |  | Unclassifiable/Attainment |  |
Marlboro County |  | Unclassifiable/Attainment |  |
Newberry County |  | Unclassifiable/Attainment |  |
Oconee County |  | Unclassifiable/Attainment |  |
Orangeburg County |  | Unclassifiable/Attainment |  |
Pickens County |  | Unclassifiable/Attainment |  |
Richland County |  | Unclassifiable/Attainment |  |
Saluda County |  | Unclassifiable/Attainment |  |
Spartanburg County |  | Unclassifiable/Attainment |  |
Sumter County |  | Unclassifiable/Attainment |  |
Union County |  | Unclassifiable/Attainment |  |
Williamsburg County |  | Unclassifiable/Attainment |  |
York County |  | Unclassifiable/Attainment |  |
¹ Includes areas of Indian country located in each county or area, except as otherwise specified.
² This date is April 15, 2015, unless otherwise noted.

* * * * *

[FR Doc. 2015-07948 Filed 4-6-15; 8:45 am]

BILLING CODE CODE 6560-50-P